DEPARTMENT OF AGRICULTURE

Agricultural Marketing Service

7 CFR Part 1205

[Doc. No. CN-03-002]

Cotton Board Rules and Regulations: Adjusting Supplemental Assessment on Imports, (2003 Amendments)

AGENCY: Agricultural Marketing Service, USDA.

ACTION: Proposed rule.

SUMMARY: The Agricultural Marketing Service (AMS) is proposing to amend the Cotton Board Rules and Regulations by lowering the value assigned to imported cotton for the purpose of calculating supplemental assessments collected for use by the Cotton Research and Promotion Program. An adjustment is required on an annual basis to ensure that the assessments collected on imported cotton and the cotton content of imported products remain similar to those paid on domestically produced cotton.

DATES: Comments must be received on or before April 14, 2003.

ADDRESSES: Interested persons are invited to submit written comments concerning this proposed rule to Whitney Rick, Chief, Research and Promotion Staff, Cotton Program, Agricultural Marketing Service, USDA, STOP 0224, Washington, DC 20250-0224. Comments should be submitted in triplicate. Comments may also be submitted electronically to: cottoncomments@usda.gov. All comments should reference the docket number and the date and page number of this issue of the Federal Register. All comments received will be made available for public inspection at Cotton Program, AMS, USDA, Room 2641-S, 1400 Independence Ave., SW., Washington, DC 20250 during regular business hours. A copy of this notice may be found at: www.ams.usda.gov/cotton/rulemaking.htm.

FOR FURTHER INFORMATION CONTACT: Whitney Rick, Chief, Research and Promotion Staff, Cotton Program, AMS, USDA, STOP 0224, 1400 Independence Ave., SW., Washington, DC 20250-0224, telephone (202) 720-2259, facsimile (202) 690-1718, or e-mail at whitney.rick@usda.gov.

SUPPLEMENTARY INFORMATION:

Executive Order 12866

The Office of Management and Budget has waived the review process required by Executive Order 12866 for this action.

Executive Order 12988

This proposed rule has been reviewed under Executive Order 12988, Civil Justice Reform. It is not intended to have retroactive effect. This proposed rule would not preempt any state or local laws, regulations, or policies, unless they present an irreconcilable conflict with this rule.

The Cotton Research and Promotion Act provides that administrative proceedings must be exhausted before parties may file suit in court. Under section 12 of the Act, any person subject to an order may file with the Secretary a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Regulatory Flexibility Act

Pursuant to requirements set forth in the Regulatory Flexibility Act (RFA) (5 U.S.C. 601 et seq.) AMS has considered the economic impact of this action on small entities and has determined that its implementation will not have a significant economic impact on a substantial number of small businesses.

There are an estimated 10,000 importers who are presently subject to rules and regulations issued pursuant to the Cotton Research and Promotion Order. This proposed rule would affect importers of cotton and cotton-containing products. The majority of these importers are small businesses under the criteria established by the Small Business Administration. This proposed rule would lower the assessments paid by the importers under the Cotton Research and Promotion Order. Even though the assessment would be lowered, the decrease is small and will not significantly affect small businesses. The current assessment on imported cotton is $0.00862 per kilogram of imported cotton. The proposed assessment is $0.008267, a decrease of $0.000353 or a 4.1 percent decrease. From January through December 2002 approximately $24 million was collected. Should the volume of cotton products imported into the U.S. remain at the same level in 2003, one could expect the decreased assessment to generate approximately $23 million or a 4.1 percent decrease from 2002.

Paperwork Reduction

In compliance with Office of Management and Budget (OMB) regulations (5 CFR part 1320) which implement the Paperwork Reduction Act (PRA) (44 U.S.C. 3501 et seq.) the information collection requirements contained in the regulation to be amended have been previously approved by OMB and were assigned control number 0581-0093.

Background

The Cotton Research and Promotion Act Amendments of 1990 enacted by Congress under Subtitle G of Title XIX of the Food, Agriculture, Conservation and Trade Act of 1990 on November 28, 1990, contained two provisions that authorized changes in the funding procedures for the Cotton Research and Promotion Program.

These provisions are: (1) The assessment of imported cotton and cotton products; and (2) termination of the right of cotton producers to demand a refund of assessments.

An amended Cotton Research and Promotion Order was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This proposed rule would decrease the value assigned to imported cotton in the Cotton Board Rules and Regulations (7 CFR 1205.510(b)(2)). This value is used to calculate supplemental assessments on imported cotton and the cotton content of imported products. Supplemental assessments are the second part of a two-part assessment. The first part of the assessment is levied on the weight of cotton produced or imported at a rate of $1 per bale of cotton which is equivalent to 500 pounds or $1 per 226.8 kilograms of cotton.

Supplemental assessments are levied at a rate of five-tenths of one percent of the value of domestically produced cotton, imported cotton, and the cotton content of imported products. The agency has adopted the practice of assigning the calendar year weighted average price received by U.S. farmers for Upland cotton to represent the value of imported cotton. This is done so that the assessment on domestically produced cotton and the assessment on imported cotton and the cotton content of imported products remain similar. The source for the average price statistic is “Agricultural Prices”, a publication of the National Agricultural Statistics Service (NASS) of the Department of Agriculture. Use of the weighted average price figure in the calculation of supplemental assessments on imported cotton and the cotton content of imported products yields an assessment that approximates assessments paid on domestically produced cotton in the prior calendar year.

The current value of imported cotton as published in the Federal Register (67 FR 36793) on May 28, 2002, for the purpose of calculating supplemental assessments on imported cotton is $.8422 per kilogram. This number was calculated using the annual weighted average price received by farmers for Upland cotton during the calendar year 2001 which was $0.382 per pound and multiplying by the conversion factor 2.2046. Using the Average Weighted Price received by U.S. farmers for Upland cotton for the calendar year 2002, which is $0.35 per pound, the new value of imported cotton is $0.7716 per kilogram. The proposed value is $.0706 per kilogram less than the previous value.

An example of the complete assessment formula and how the various figures are obtained is as follows:

One bale is equal to 500 pounds.

One kilogram equals 2.2046 pounds.

One pound equals 0.453597 kilograms.

One Dollar Per Bale Assessment Converted to Kilograms

A 500 pound bale equals 226.8 kg. (500 x .453597).

$1 per bale assessment equals $0.002000 per pound (1/500) or $0.004409 per kg. (1/226.8).

Supplemental Assessment of 5/10 of One Percent of the Value of the Cotton Converted to Kilograms.

The 2002 calendar year weighted average price received by producers for Upland cotton is $0.35 per pound or $0.7716 per kg. (0.35 x 2.2046).

Five tenths of one percent of the average price in kg. equals $0.003858 per kg. (0.7716 x .005).

Total Assessment

The total assessment per kilogram of raw cotton is obtained by adding the $1 per bale equivalent assessment of $0.004409 per kg. and the supplemental assessment $0.003858 per kg. which equals $0.008267 per kg.

The current assessment on imported cotton is $0.008620 per kilogram of imported cotton. The proposed assessment is $0.008267, a decrease of $0.000353 per kilogram. This decrease reflects the decrease in the Average Weighted Price of Upland Cotton received by U.S. Farmers during the period January through December 2002.

Since the value of cotton is the basis of the supplemental assessment calculation and the figures shown in the right hand column of the Import Assessment Table 1205.510(b)(3) are a result of such a calculation, the figures in this table have been revised. These figures indicate the total assessment per kilogram due for each Harmonized Tariff Schedule (HTS) number subject to assessment.

A thirty day comment period is provided to comment on the changes to the Cotton Board Rules and Regulations proposed herein. This period is deemed appropriate because this proposal would lower the assessments paid by importers under the Cotton Research and Promotion Order. Accordingly, the change proposed in this rule, if adopted, should be implemented as soon as possible.

List of Subjects in 7 CFR Part 1205

Advertising, Agricultural research, Cotton, Marketing agreements, Reporting and recordkeeping requirements.

For the reasons set forth in the preamble 7 CFR part 1205 is proposed to be amended as follows:

PART 1205—COTTON RESEARCH AND PROMOTION

1. The authority citation for part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $0.8267 per kilogram.

(3) * * *

(ii) * * *

Import Assessment Table
[Raw Cotton Fiber]
HTS No. | Conv. fact. | Cents/kg.
5201000500 | 0 | 0.8267
5201001200 | 0 | 0.8267
5201001400 | 0 | 0.8267
5201001800 | 0 | 0.8267
5201002200 | 0 | 0.8267
5201002400 | 0 | 0.8267
5201002800 | 0 | 0.8267
5201003400 | 0 | 0.8267
5201003800 | 0 | 0.8267
5204110000 | 1.1111 | 0.9185
5204200000 | 1.1111 | 0.9185
5205111000 | 1.1111 | 0.9185
5205112000 | 1.1111 | 0.9185
5205121000 | 1.1111 | 0.9185
5205122000 | 1.1111 | 0.9185
5205131000 | 1.1111 | 0.9185
5205132000 | 1.1111 | 0.9185
5205141000 | 1.1111 | 0.9185
5205210020 | 1.1111 | 0.9185
5205210090 | 1.1111 | 0.9185
5205220020 | 1.1111 | 0.9185
5205220090 | 1.1111 | 0.9185
5205230020 | 1.1111 | 0.9185
5205230090 | 1.1111 | 0.9185
5205240020 | 1.1111 | 0.9185
5205240090 | 1.1111 | 0.9185
5205310000 | 1.1111 | 0.9185
5205320000 | 1.1111 | 0.9185
5205330000 | 1.1111 | 0.9185
5205340000 | 1.1111 | 0.9185
5205410020 | 1.1111 | 0.9185
5205410090 | 1.1111 | 0.9185
5205420020 | 1.1111 | 0.9185
5205420090 | 1.1111 | 0.9185
5205440020 | 1.1111 | 0.9185
5205440090 | 1.1111 | 0.9185
5206120000 | 0.5556 | 0.4593
5206130000 | 0.5556 | 0.4593
5206140000 | 0.5556 | 0.4593
5206220000 | 0.5556 | 0.4593
5206230000 | 0.5556 | 0.4593
5206240000 | 0.5556 | 0.4593
5206310000 | 0.5556 | 0.4593
5207100000 | 1.1111 | 0.9185
5207900000 | 0.5556 | 0.4593
5208112020 | 1.1455 | 0.9470
5208112040 | 1.1455 | 0.9470
5208112090 | 1.1455 | 0.9470
5208114020 | 1.1455 | 0.9470
5208114060 | 1.1455 | 0.9470
5208114090 | 1.1455 | 0.9470
5208118090 | 1.1455 | 0.9470
5208124020 | 1.1455 | 0.9470
5208124040 | 1.1455 | 0.9470
5208124090 | 1.1455 | 0.9470
5208126020 | 1.1455 | 0.9470
5208126040 | 1.1455 | 0.9470
5208126060 | 1.1455 | 0.9470
5208126090 | 1.1455 | 0.9470
5208128020 | 1.1455 | 0.9470
5208128090 | 1.1455 | 0.9470
5208130000 | 1.1455 | 0.9470
5208192020 | 1.1455 | 0.9470
5208192090 | 1.1455 | 0.9470
5208194020 | 1.1455 | 0.9470
5208194090 | 1.1455 | 0.9470
5208196020 | 1.1455 | 0.9470
5208196090 | 1.1455 | 0.9470
5208224040 | 1.1455 | 0.9470
5208224090 | 1.1455 | 0.9470
5208226020 | 1.1455 | 0.9470
5208226060 | 1.1455 | 0.9470
5208228020 | 1.1455 | 0.9470
5208230000 | 1.1455 | 0.9470
5208292020 | 1.1455 | 0.9470
5208292090 | 1.1455 | 0.9470
5208294090 | 1.1455 | 0.9470
5208296090 | 1.1455 | 0.9470
5208298020 | 1.1455 | 0.9470
5208312000 | 1.1455 | 0.9470
5208321000 | 1.1455 | 0.9470
5208323020 | 1.1455 | 0.9470
5208323040 | 1.1455 | 0.9470
5208323090 | 1.1455 | 0.9470
5208324020 | 1.1455 | 0.9470
5208324040 | 1.1455 | 0.9470
5208325020 | 1.1455 | 0.9470
5208330000 | 1.1455 | 0.9470
5208392020 | 1.1455 | 0.9470
5208392090 | 1.1455 | 0.9470
5208394090 | 1.1455 | 0.9470
5208396090 | 1.1455 | 0.9470
5208398020 | 1.1455 | 0.9470
5208412000 | 1.1455 | 0.9470
5208416000 | 1.1455 | 0.9470
5208418000 | 1.1455 | 0.9470
5208421000 | 1.1455 | 0.9470
5208423000 | 1.1455 | 0.9470
5208424000 | 1.1455 | 0.9470
5208425000 | 1.1455 | 0.9470
5208430000 | 1.1455 | 0.9470
5208492000 | 1.1455 | 0.9470
5208494020 | 1.1455 | 0.9470
5208494090 | 1.1455 | 0.9470
5208496010 | 1.1455 | 0.9470
5208496090 | 1.1455 | 0.9470
5208498090 | 1.1455 | 0.9470
5208512000 | 1.1455 | 0.9470
5208516060 | 1.1455 | 0.9470
5208518090 | 1.1455 | 0.9470
5208523020 | 1.1455 | 0.9470
5208523045 | 1.1455 | 0.9470
5208523090 | 1.1455 | 0.9470
5208524020 | 1.1455 | 0.9470
5208524045 | 1.1455 | 0.9470
5208524065 | 1.1455 | 0.9470
5208525020 | 1.1455 | 0.9470
5208530000 | 1.1455 | 0.9470
5208592025 | 1.1455 | 0.9470
5208592095 | 1.1455 | 0.9470
5208594090 | 1.1455 | 0.9470
5208596090 | 1.1455 | 0.9470
5209110020 | 1.1455 | 0.9470
5209110035 | 1.1455 | 0.9470
5209110090 | 1.1455 | 0.9470
5209120020 | 1.1455 | 0.9470
5209120040 | 1.1455 | 0.9470
5209190020 | 1.1455 | 0.9470
5209190040 | 1.1455 | 0.9470
5209190060 | 1.1455 | 0.9470
5209190090 | 1.1455 | 0.9470
5209210090 | 1.1455 | 0.9470
5209220020 | 1.1455 | 0.9470
5209220040 | 1.1455 | 0.9470
5209290040 | 1.1455 | 0.9470
5209290090 | 1.1455 | 0.9470
5209313000 | 1.1455 | 0.9470
5209316020 | 1.1455 | 0.9470
5209316035 | 1.1455 | 0.9470
5209316050 | 1.1455 | 0.9470
5209316090 | 1.1455 | 0.9470
5209320020 | 1.1455 | 0.9470
5209320040 | 1.1455 | 0.9470
5209390020 | 1.1455 | 0.9470
5209390040 | 1.1455 | 0.9470
5209390060 | 1.1455 | 0.9470
5209390080 | 1.1455 | 0.9470
5209390090 | 1.1455 | 0.9470
5209413000 | 1.1455 | 0.9470
5209416020 | 1.1455 | 0.9470
5209416040 | 1.1455 | 0.9470
5209420020 | 1.0309 | 0.8522
5209420040 | 1.0309 | 0.8522
5209430030 | 1.1455 | 0.9470
5209430050 | 1.1455 | 0.9470
5209490020 | 1.1455 | 0.9470
5209490090 | 1.1455 | 0.9470
5209516035 | 1.1455 | 0.9470
5209516050 | 1.1455 | 0.9470
5209520020 | 1.1455 | 0.9470
5209590025 | 1.1455 | 0.9470
5209590040 | 1.1455 | 0.9470
5209590090 | 1.1455 | 0.9470
5210114020 | 0.6873 | 0.5682
5210114040 | 0.6873 | 0.5682
5210116020 | 0.6873 | 0.5682
5210116040 | 0.6873 | 0.5682
5210116060 | 0.6873 | 0.5682
5210118020 | 0.6873 | 0.5682
5210120000 | 0.6873 | 0.5682
5210192090 | 0.6873 | 0.5682
5210214040 | 0.6873 | 0.5682
5210216020 | 0.6873 | 0.5682
5210216060 | 0.6873 | 0.5682
5210218020 | 0.6873 | 0.5682
5210314020 | 0.6873 | 0.5682
5210314040 | 0.6873 | 0.5682
5210316020 | 0.6873 | 0.5682
5210318020 | 0.6873 | 0.5682
5210414000 | 0.6873 | 0.5682
5210416000 | 0.6873 | 0.5682
5210418000 | 0.6873 | 0.5682
5210498090 | 0.6873 | 0.5682
5210514040 | 0.6873 | 0.5682
5210516020 | 0.6873 | 0.5682
5210516040 | 0.6873 | 0.5682
5210516060 | 0.6873 | 0.5682
5211110090 | 0.6873 | 0.5682
5211120020 | 0.6873 | 0.5682
5211190020 | 0.6873 | 0.5682
5211190060 | 0.6873 | 0.5682
5211210025 | 0.6873 | 0.5682
5211210035 | 0.4165 | 0.3443
5211210050 | 0.6873 | 0.5682
5211290090 | 0.6873 | 0.5682
5211320020 | 0.6873 | 0.5682
5211390040 | 0.6873 | 0.5682
5211390060 | 0.6873 | 0.5682
5211490020 | 0.6873 | 0.5682
5211490090 | 0.6873 | 0.5682
5211590025 | 0.6873 | 0.5682
5212146090 | 0.9164 | 0.7576
5212156020 | 0.9164 | 0.7576
5212216090 | 0.9164 | 0.7576
5509530030 | 0.5556 | 0.4593
5509530060 | 0.5556 | 0.4593
5513110020 | 0.4009 | 0.3314
5513110040 | 0.4009 | 0.3314
5513110060 | 0.4009 | 0.3314
5513110090 | 0.4009 | 0.3314
5513120000 | 0.4009 | 0.3314
5513130020 | 0.4009 | 0.3314
5513210020 | 0.4009 | 0.3314
5513310000 | 0.4009 | 0.3314
5514120020 | 0.4009 | 0.3314
5516420060 | 0.4009 | 0.3314
5516910060 | 0.4009 | 0.3314
5516930090 | 0.4009 | 0.3314
5601210010 | 1.1455 | 0.9470
5601210090 | 1.1455 | 0.9470
5601300000 | 1.1455 | 0.9470
5602109090 | 0.5727 | 0.4735
5602290000 | 1.1455 | 0.9470
5602906000 | 0.526 | 0.4348
5604900000 | 0.5556 | 0.4593
5607909000 | 0.8889 | 0.7349
5608901000 | 1.1111 | 0.9185
5608902300 | 1.1111 | 0.9185
5609001000 | 1.1111 | 0.9185
5609004000 | 0.5556 | 0.4593
5701104000 | 0.0556 | 0.0460
5701109000 | 0.1111 | 0.0918
5701901010 | 1.0444 | 0.8634
5702109020 | 1.1 | 0.9094
5702312000 | 0.0778 | 0.0643
5702411000 | 0.0722 | 0.0597
5702412000 | 0.0778 | 0.0643
5702421000 | 0.0778 | 0.0643
5702913000 | 0.0889 | 0.0735
5702991010 | 1.1111 | 0.9185
5702991090 | 1.1111 | 0.9185
5703900000 | 0.4489 | 0.3711
5801210000 | 1.1455 | 0.9470
5801230000 | 1.1455 | 0.9470
5801250010 | 1.1455 | 0.9470
5801250020 | 1.1455 | 0.9470
5801260020 | 1.1455 | 0.9470
5802190000 | 1.1455 | 0.9470
5802300030 | 0.5727 | 0.4735
5804291000 | 1.1455 | 0.9470
5806200010 | 0.3534 | 0.2922
5806200090 | 0.3534 | 0.2922
5806310000 | 1.1455 | 0.9470
5806400000 | 0.4296 | 0.3552
5808107000 | 0.5727 | 0.4735
5808900010 | 0.5727 | 0.4735
5811002000 | 1.1455 | 0.9470
6001106000 | 1.1455 | 0.9470
6001210000 | 0.8591 | 0.7102
6001220000 | 0.2864 | 0.2368
6001910010 | 0.8591 | 0.7102
6001910020 | 0.8591 | 0.7102
6001920020 | 0.2864 | 0.2368
6001920030 | 0.2864 | 0.2368
6001920040 | 0.2864 | 0.2368
6003203000 | 0.8681 | 0.7177
6003306000 | 0.2894 | 0.2392
6003406000 | 0.2894 | 0.2392
6005210000 | 0.8681 | 0.7177
6005220000 | 0.8681 | 0.7177
6005230000 | 0.8681 | 0.7177
6005240000 | 0.8681 | 0.7177
6005310010 | 0.2894 | 0.2392
6005320010 | 0.2894 | 0.2392
6005330010 | 0.2894 | 0.2392
6005340010 | 0.2894 | 0.2392
6005410010 | 0.2894 | 0.2392
6005420010 | 0.2894 | 0.2392
6005430010 | 0.2894 | 0.2392
6005440010 | 0.2894 | 0.2392
6005310080 | 0.2894 | 0.2392
6005320080 | 0.2894 | 0.2392
6005330080 | 0.2894 | 0.2392
6005340080 | 0.2894 | 0.2392
6005410080 | 0.2894 | 0.2392
6005420080 | 0.2894 | 0.2392
6005430080 | 0.2894 | 0.2392
6005440080 | 0.2894 | 0.2392
6006211000 | 1.1574 | 0.9568
6006221000 | 1.1574 | 0.9568
6006231000 | 1.1574 | 0.9568
6006241000 | 1.1574 | 0.9568
6006310040 | 0.1157 | 0.0956
6006320040 | 0.1157 | 0.0956
6006330040 | 0.1157 | 0.0956
6006340040 | 0.1157 | 0.0956
6006310080 | 0.1157 | 0.0956
6006320080 | 0.1157 | 0.0956
6006330080 | 0.1157 | 0.0956
6006340080 | 0.1157 | 0.0956
6006410085 | 0.1157 | 0.0956
6006420085 | 0.1157 | 0.0956
6006430085 | 0.1157 | 0.0956
6006440085 | 0.1157 | 0.0956
6101200010 | 1.0094 | 0.8345
6101200020 | 1.0094 | 0.8345
6102200010 | 1.0094 | 0.8345
6102200020 | 1.0094 | 0.8345
6103421020 | 0.8806 | 0.7280
6103421040 | 0.8806 | 0.7280
6103421050 | 0.8806 | 0.7280
6103421070 | 0.8806 | 0.7280
6103431520 | 0.2516 | 0.2080
6103431540 | 0.2516 | 0.2080
6103431550 | 0.2516 | 0.2080
6103431570 | 0.2516 | 0.2080
6104220040 | 0.9002 | 0.7442
6104220060 | 0.9002 | 0.7442
6104320000 | 0.9207 | 0.7611
6104420010 | 0.9002 | 0.7442
6104420020 | 0.9002 | 0.7442
6104520010 | 0.9312 | 0.7698
6104520020 | 0.9312 | 0.7698
6104622006 | 0.8806 | 0.7280
6104622011 | 0.8806 | 0.7280
6104622016 | 0.8806 | 0.7280
6104622021 | 0.8806 | 0.7280
6104622026 | 0.8806 | 0.7280
6104622028 | 0.8806 | 0.7280
6104622030 | 0.8806 | 0.7280
6104622060 | 0.8806 | 0.7280
6104632006 | 0.3774 | 0.3120
6104632011 | 0.3774 | 0.3120
6104632026 | 0.3774 | 0.3120
6104632028 | 0.3774 | 0.3120
6104632030 | 0.3774 | 0.3120
6104632060 | 0.3774 | 0.3120
6104692030 | 0.3858 | 0.3189
6105100010 | 0.985 | 0.8143
6105100020 | 0.985 | 0.8143
6105100030 | 0.985 | 0.8143
6105202010 | 0.3078 | 0.2545
6105202030 | 0.3078 | 0.2545
6106100010 | 0.985 | 0.8143
6106100020 | 0.985 | 0.8143
6106100030 | 0.985 | 0.8143
6106202010 | 0.3078 | 0.2545
6106202030 | 0.3078 | 0.2545
6107110010 | 1.1322 | 0.9360
6107110020 | 1.1322 | 0.9360
6107120010 | 0.5032 | 0.4160
6107210010 | 0.8806 | 0.7280
6107220015 | 0.3774 | 0.3120
6107220025 | 0.3774 | 0.3120
6107910040 | 1.2581 | 1.0401
6108210010 | 1.2445 | 1.0288
6108210020 | 1.2445 | 1.0288
6108310010 | 1.1201 | 0.9260
6108310020 | 1.1201 | 0.9260
6108320010 | 0.2489 | 0.2058
6108320015 | 0.2489 | 0.2058
6108320025 | 0.2489 | 0.2058
6108910005 | 1.2445 | 1.0288
6108910015 | 1.2445 | 1.0288
6108910025 | 1.2445 | 1.0288
6108910030 | 1.2445 | 1.0288
6108920030 | 0.2489 | 0.2058
6109100005 | 0.9956 | 0.8231
6109100007 | 0.9956 | 0.8231
6109100009 | 0.9956 | 0.8231
6109100012 | 0.9956 | 0.8231
6109100014 | 0.9956 | 0.8231
6109100018 | 0.9956 | 0.8231
6109100023 | 0.9956 | 0.8231
6109100027 | 0.9956 | 0.8231
6109100037 | 0.9956 | 0.8231
6109100040 | 0.9956 | 0.8231
6109100045 | 0.9956 | 0.8231
6109100060 | 0.9956 | 0.8231
6109100065 | 0.9956 | 0.8231
6109100070 | 0.9956 | 0.8231
6109901007 | 0.3111 | 0.2572
6109901009 | 0.3111 | 0.2572
6109901049 | 0.3111 | 0.2572
6109901050 | 0.3111 | 0.2572
6109901060 | 0.3111 | 0.2572
6109901065 | 0.3111 | 0.2572
6109901090 | 0.3111 | 0.2572
6110202005 | 1.1837 | 0.9786
6110202010 | 1.1837 | 0.9786
6110202015 | 1.1837 | 0.9786
6110202020 | 1.1837 | 0.9786
6110202025 | 1.1837 | 0.9786
6110202030 | 1.1837 | 0.9786
6110202035 | 1.1837 | 0.9786
6110202040 | 1.1574 | 0.9568
6110202045 | 1.1574 | 0.9568
6110202065 | 1.1574 | 0.9568
6110202075 | 1.1574 | 0.9568
6110909022 | 0.263 | 0.2174
6110909024 | 0.263 | 0.2174
6110909030 | 0.3946 | 0.3262
6110909040 | 0.263 | 0.2174
6110909042 | 0.263 | 0.2174
6111201000 | 1.2581 | 1.0401
6111202000 | 1.2581 | 1.0401
6111203000 | 1.0064 | 0.8320
6111205000 | 1.0064 | 0.8320
6111206010 | 1.0064 | 0.8320
6111206020 | 1.0064 | 0.8320
6111206030 | 1.0064 | 0.8320
6111206040 | 1.0064 | 0.8320
6111305020 | 0.2516 | 0.2080
6111305040 | 0.2516 | 0.2080
6112110050 | 0.7548 | 0.6240
6112120010 | 0.2516 | 0.2080
6112120030 | 0.2516 | 0.2080
6112120040 | 0.2516 | 0.2080
6112120050 | 0.2516 | 0.2080
6112120060 | 0.2516 | 0.2080
6112390010 | 1.1322 | 0.9360
6112490010 | 0.9435 | 0.7800
6114200005 | 0.9002 | 0.7442
6114200010 | 0.9002 | 0.7442
6114200015 | 0.9002 | 0.7442
6114200020 | 1.286 | 1.0631
6114200040 | 0.9002 | 0.7442
6114200046 | 0.9002 | 0.7442
6114200052 | 0.9002 | 0.7442
6114200060 | 0.9002 | 0.7442
6114301010 | 0.2572 | 0.2126
6114301020 | 0.2572 | 0.2126
6114303030 | 0.2572 | 0.2126
6115198010 | 1.0417 | 0.8612
6115929000 | 1.0417 | 0.8612
6115936020 | 0.2315 | 0.1914
6116101300 | 0.3655 | 0.3022
6116101720 | 0.8528 | 0.7050
6116926420 | 1.0965 | 0.9065
6116926430 | 1.2183 | 1.0072
6116926440 | 1.0965 | 0.9065
6116928800 | 1.0965 | 0.9065
6117809510 | 0.9747 | 0.8058
6117809540 | 0.3655 | 0.3022
6201121000 | 0.948 | 0.7837
6201122010 | 0.8953 | 0.7401
6201122050 | 0.6847 | 0.5660
6201122060 | 0.6847 | 0.5660
6201134030 | 0.2633 | 0.2177
6201921000 | 0.9267 | 0.7661
6201921500 | 1.1583 | 0.9576
6201922010 | 1.0296 | 0.8512
6201922021 | 1.2871 | 1.0640
6201922031 | 1.2871 | 1.0640
6201922041 | 1.2871 | 1.0640
6201922051 | 1.0296 | 0.8512
6201922061 | 1.0296 | 0.8512
6201931000 | 0.3089 | 0.2554
6201933511 | 0.2574 | 0.2128
6201933521 | 0.2574 | 0.2128
6201999060 | 0.2574 | 0.2128
6202121000 | 0.9372 | 0.7748
6202122010 | 1.1064 | 0.9147
6202122025 | 1.3017 | 1.0761
6202122050 | 0.8461 | 0.6995
6202122060 | 0.8461 | 0.6995
6202134005 | 0.2664 | 0.2202
6202134020 | 0.333 | 0.2753
6202921000 | 1.0413 | 0.8608
6202921500 | 1.0413 | 0.8608
6202922026 | 1.3017 | 1.0761
6202922061 | 1.0413 | 0.8608
6202922071 | 1.0413 | 0.8608
6202931000 | 0.3124 | 0.2583
6202935011 | 0.2603 | 0.2152
6202935021 | 0.2603 | 0.2152
6203122010 | 0.1302 | 0.1076
6203221000 | 1.3017 | 1.0761
6203322010 | 1.2366 | 1.0223
6203322040 | 1.2366 | 1.0223
6203332010 | 0.1302 | 0.1076
6203392010 | 1.1715 | 0.9685
6203399060 | 0.2603 | 0.2152
6203422010 | 0.9961 | 0.8235
6203422025 | 0.9961 | 0.8235
6203422050 | 0.9961 | 0.8235
6203422090 | 0.9961 | 0.8235
6203424005 | 1.2451 | 1.0293
6203424010 | 1.2451 | 1.0293
6203424015 | 0.9961 | 0.8235
6203424020 | 1.2451 | 1.0293
6203424025 | 1.2451 | 1.0293
6203424030 | 1.2451 | 1.0293
6203424035 | 1.2451 | 1.0293
6203424040 | 0.9961 | 0.8235
6203424045 | 0.9961 | 0.8235
6203424050 | 0.9238 | 0.7637
6203424055 | 0.9238 | 0.7637
6203424060 | 0.9238 | 0.7637
6203431500 | 0.1245 | 0.1029
6203434010 | 0.1232 | 0.1018
6203434020 | 0.1232 | 0.1018
6203434030 | 0.1232 | 0.1018
6203434040 | 0.1232 | 0.1018
6203498045 | 0.249 | 0.2058
6204132010 | 0.1302 | 0.1076
6204192000 | 0.1302 | 0.1076
6204198090 | 0.2603 | 0.2152
6204221000 | 1.3017 | 1.0761
6204223030 | 1.0413 | 0.8608
6204223040 | 1.0413 | 0.8608
6204223050 | 1.0413 | 0.8608
6204223060 | 1.0413 | 0.8608
6204223065 | 1.0413 | 0.8608
6204292040 | 0.3254 | 0.2690
6204322010 | 1.2366 | 1.0223
6204322030 | 1.0413 | 0.8608
6204322040 | 1.0413 | 0.8608
6204423010 | 1.2728 | 1.0522
6204423030 | 0.9546 | 0.7892
6204423040 | 0.9546 | 0.7892
6204423050 | 0.9546 | 0.7892
6204423060 | 0.9546 | 0.7892
6204522010 | 1.2654 | 1.0461
6204522030 | 1.2654 | 1.0461
6204522040 | 1.2654 | 1.0461
6204522070 | 1.0656 | 0.8809
6204522080 | 1.0656 | 0.8809
6204533010 | 0.2664 | 0.2202
6204594060 | 0.2664 | 0.2202
6204622010 | 0.9961 | 0.8235
6204622025 | 0.9961 | 0.8235
6204622050 | 0.9961 | 0.8235
6204624005 | 1.2451 | 1.0293
6204624010 | 1.2451 | 1.0293
6204624020 | 0.9961 | 0.8235
6204624025 | 1.2451 | 1.0293
6204624030 | 1.2451 | 1.0293
6204624035 | 1.2451 | 1.0293
6204624040 | 1.2451 | 1.0293
6204624045 | 0.9961 | 0.8235
6204624050 | 0.9961 | 0.8235
6204624055 | 0.9854 | 0.8146
6204624060 | 0.9854 | 0.8146
6204624065 | 0.9854 | 0.8146
6204633510 | 0.2546 | 0.2105
6204633530 | 0.2546 | 0.2105
6204633532 | 0.2437 | 0.2015
6204633540 | 0.2437 | 0.2015
6204692510 | 0.249 | 0.2058
6204692540 | 0.2437 | 0.2015
6204699044 | 0.249 | 0.2058
6204699046 | 0.249 | 0.2058
6204699050 | 0.249 | 0.2058
6205202015 | 0.9961 | 0.8235
6205202020 | 0.9961 | 0.8235
6205202025 | 0.9961 | 0.8235
6205202030 | 0.9961 | 0.8235
6205202035 | 1.1206 | 0.9264
6205202046 | 0.9961 | 0.8235
6205202050 | 0.9961 | 0.8235
6205202060 | 0.9961 | 0.8235
6205202065 | 0.9961 | 0.8235
6205202070 | 0.9961 | 0.8235
6205202075 | 0.9961 | 0.8235
6205302010 | 0.3113 | 0.2574
6205302030 | 0.3113 | 0.2574
6205302040 | 0.3113 | 0.2574
6205302050 | 0.3113 | 0.2574
6505302070 | 0.3113 | 0.2574
6205302080 | 0.3113 | 0.2574
6206100040 | 0.1245 | 0.1029
6206303010 | 0.9961 | 0.8235
6206303020 | 0.9961 | 0.8235
6206303030 | 0.9961 | 0.8235
6206303040 | 0.9961 | 0.8235
6206303050 | 0.9961 | 0.8235
6206303060 | 0.9961 | 0.8235
6206403010 | 0.3113 | 0.2574
6206403030 | 0.3113 | 0.2574
6206900040 | 0.249 | 0.2058
6207110000 | 1.0852 | 0.8971
6207199010 | 0.3617 | 0.2990
6207210030 | 1.1085 | 0.9164
6207220000 | 0.3695 | 0.3055
6207911000 | 1.1455 | 0.9470
6207913010 | 1.1455 | 0.9470
6207913020 | 1.1455 | 0.9470
6208210010 | 1.0583 | 0.8749
6208210020 | 1.0583 | 0.8749
6208220000 | 0.1245 | 0.1029
6208911010 | 1.1455 | 0.9470
6208911020 | 1.1455 | 0.9470
6208913010 | 1.1455 | 0.9470
6209201000 | 1.1577 | 0.9571
6209203000 | 0.9749 | 0.8059
6209205030 | 0.9749 | 0.8059
6209205035 | 0.9749 | 0.8059
6209205040 | 1.2186 | 1.0074
6209205045 | 0.9749 | 0.8059
6209205050 | 0.9749 | 0.8059
6209303020 | 0.2463 | 0.2036
6209303040 | 0.2463 | 0.2036
6210109010 | 0.2291 | 0.1894
6210403000 | 0.0391 | 0.0323
6210405020 | 0.4556 | 0.3766
6211111010 | 0.1273 | 0.1052
6211111020 | 0.1273 | 0.1052
6211118010 | 1.1455 | 0.9470
6211118020 | 1.1455 | 0.9470
6211320007 | 0.8461 | 0.6995
6211320010 | 1.0413 | 0.8608
6211320015 | 1.0413 | 0.8608
6211320030 | 0.9763 | 0.8071
6211320060 | 0.9763 | 0.8071
6211320070 | 0.9763 | 0.8071
6211330010 | 0.3254 | 0.2690
6211330030 | 0.3905 | 0.3228
6211330035 | 0.3905 | 0.3228
6211330040 | 0.3905 | 0.3228
6211420010 | 1.0413 | 0.8608
6211420020 | 1.0413 | 0.8608
6211420025 | 1.1715 | 0.9685
6211420060 | 1.0413 | 0.8608
6211420070 | 1.1715 | 0.9685
6211430010 | 0.2603 | 0.2152
6211430030 | 0.2603 | 0.2152
6211430040 | 0.2603 | 0.2152
6211430050 | 0.2603 | 0.2152
6211430060 | 0.2603 | 0.2152
6211430066 | 0.2603 | 0.2152
6212105020 | 0.2412 | 0.1994
6212109010 | 0.9646 | 0.7974
6212109020 | 0.2412 | 0.1994
6212200020 | 0.3014 | 0.2492
6212900030 | 0.1929 | 0.1595
6213201000 | 1.1809 | 0.9763
6213202000 | 1.0628 | 0.8786
6213901000 | 0.4724 | 0.3905
6214900010 | 0.9043 | 0.7476
6216000800 | 0.2351 | 0.1944
6216001720 | 0.6752 | 0.5582
6216003800 | 1.2058 | 0.9968
6216004100 | 1.2058 | 0.9968
6217109510 | 1.0182 | 0.8417
6217109530 | 0.2546 | 0.2105
6301300010 | 0.8766 | 0.7247
6301300020 | 0.8766 | 0.7247
6302100005 | 1.1689 | 0.9663
6302100008 | 1.1689 | 0.9663
6302100015 | 1.1689 | 0.9663
6302215010 | 0.8182 | 0.6764
6302215020 | 0.8182 | 0.6764
6302217010 | 1.1689 | 0.9663
6302217020 | 1.1689 | 0.9663
6302217050 | 1.1689 | 0.9663
6302219010 | 0.8182 | 0.6764
6302219020 | 0.8182 | 0.6764
6302219050 | 0.8182 | 0.6764
6302222010 | 0.4091 | 0.3382
6302222020 | 0.4091 | 0.3382
6302313010 | 0.8182 | 0.6764
6302313050 | 1.1689 | 0.9663
6302315050 | 0.8182 | 0.6764
6302317010 | 1.1689 | 0.9663
6302317020 | 1.1689 | 0.9663
6302317040 | 1.1689 | 0.9663
6302317050 | 1.1689 | 0.9663
6302319010 | 0.8182 | 0.6764
6302319040 | 0.8182 | 0.6764
6302319050 | 0.8182 | 0.6764
6302322020 | 0.4091 | 0.3382
6302322040 | 0.4091 | 0.3382
6302402010 | 0.9935 | 0.8213
6302511000 | 0.5844 | 0.4831
6302512000 | 0.8766 | 0.7247
6302513000 | 0.5844 | 0.4831
6302514000 | 0.8182 | 0.6764
6302600010 | 1.1689 | 0.9663
6302600020 | 1.052 | 0.8697
6302600030 | 1.052 | 0.8697
6302910005 | 1.052 | 0.8697
6302910015 | 1.1689 | 0.9663
6302910025 | 1.052 | 0.8697
6302910035 | 1.052 | 0.8697
6302910045 | 1.052 | 0.8697
6302910050 | 1.052 | 0.8697
6302910060 | 1.052 | 0.8697
6303110000 | 0.9448 | 0.7811
6303910010 | 0.6429 | 0.5315
6303910020 | 0.6429 | 0.5315
6304111000 | 1.0629 | 0.8787
6304190500 | 1.052 | 0.8697
6304191000 | 1.1689 | 0.9663
6304191500 | 0.4091 | 0.3382
6304192000 | 0.4091 | 0.3382
6304910020 | 0.9351 | 0.7730
6304920000 | 0.9351 | 0.7730
6505901540 | 0.181 | 0.1496
6505902060 | 0.9935 | 0.8213
6505902545 | 0.5844 | 0.4831

* * * * *

Dated: March 11, 2003.
Kenneth C. Clayton,
Acting Administrator, Agricultural Marketing Service.

[FR Doc. 03-6164 Filed 3-13-03; 8:45 am]

BILLING CODE 3410-02-P